SURFACE TRANSPORTATION BOARD

[Docket No. FD 36513]

RJ Corman Railroad Company/Tennessee Terminal, LLC—Lease and Operation Exemption With Interchange Commitment—BNSF Railway Company

RJ Corman Railroad Company/Tennessee Terminal, LLC (RJ/TN), a Class III rail carrier, has filed a verified notice of exemption under 49 CFR 1150.41 to continue to lease from BNSF Railway Company (BNSF) and operate approximately 46.7 miles of rail line (the Lines) as follows: (1) The Tennessee Yard tracks in Shelby County, Tenn., consisting of (a) Track No. 0323 from a point west of Track No. 0324 to the point it connects with Track No. 2058 on the west end of the yard; (b) Track Nos. 2062, 2063, 2064, 2065, 0311, and 0312; (c) Track No. 1400, and all connected BNSF-owned industrial tracks north of the yard; (d) Track No. 1300, and all connected BNSF-owned industrial tracks north of the yard; (e) Track Nos. 1365, 1370, and 1375; (f) Track No. 1372; (g) Track No. 1500 from a point east of the Shelby overpass and all Hickory Hill Industrial Park leads owned by BNSF; and (h) Track Nos. 0892, 1202, 1204, 1207, and all connected BNSF-owned industrial tracks north of main track No. 2; (2) the Airport Industrial Park tracks, located in Shelby County, Tenn.; and (3) the Olive Branch, Mississippi Metro Industrial Park tracks in DeSoto County, Miss. RJ/TN states that the Lines generally do not have mileposts.

The verified notice states that RJ/TN is the current operator of the Lines.¹ According to RJ/TN, it and BNSF have entered into a lease agreement for the Lines, and RJ/TN will continue to operate the Lines after the transaction.

¹ See R.J. Corman R.R. Tenn. Terminal, LLC—Lease & Operation Exemption—BNSF Ry., FD 34772 (STB served Feb. 3, 2006). RJ/TN notes that certain tracks have been renamed since that 2006 proceeding but the track numbers remain the same.

RJ/TN certifies that its projected annual revenue from this transaction will not exceed $5 million and will not result in RJ/TN's becoming a Class I or Class II rail carrier.

As required under 49 CFR 1150.43(h)(1), RJ/TN has disclosed in its verified notice that its lease agreement with BNSF contains an interchange commitment pertaining to interchange with carriers other than BNSF. RJ/TN has provided additional information regarding the interchange commitment as required by 49 CFR 1150.43(h).²

² A copy of the lease with the interchange commitment was submitted under seal. See 49 CFR 1150.43(h)(1).

The earliest this transaction may be consummated is October 14, 2021 (30 days after the verified notice was filed).

If the notice contains false or misleading information, the exemption is void ab initio. Petitions to revoke the exemption under 49 U.S.C. 10502(d) may be filed at any time. The filing of a petition to revoke will not automatically stay the effectiveness of the exemption. Petitions for stay must be filed no later than October 7, 2021.

All pleadings, referring to Docket No. FD 36513, should be filed with the Surface Transportation Board via e-filing on the Board's website. In addition, one copy of each pleading must be served on RJ/TN's representative: Bradon J. Smith, Fletcher & Sippel LLC, 29 North Wacker Drive, Suite 800, Chicago, IL 60606.

According to RJ/TN, this action is categorically excluded from environmental review under 49 CFR 1105.6(c) and from historic preservation reporting requirements under 49 CFR 1105.8(b).

Board decisions and notices are available at www.stb.gov.

Decided: September 24, 2021.
By the Board, Valerie O. Quinn, Acting Director, Office of Proceedings.
Kenyatta Clay,
Clearance Clerk.

[FR Doc. 2021-21250 Filed 9-29-21; 8:45 am]

BILLING CODE 4915-01-P